DEPARTMENT OF ENERGY

Federal Energy Regulatory Commission

[Docket No. EL14-16-000]

Newmont Nevada Energy Investment LLC v. Sierra Pacific Power Company; Notice of Complaints

Take notice that on December 23, 2013, pursuant to sections 206 and 306 of the Federal Power Act (FPA), 16 U.S.C. 824e, and 825e and Rule 206 of the Rules of Practice and Procedure of the Federal Energy Regulatory Commission (Commission), 18 CFR 385.206, Newmont Nevada Energy Investment LLC (NNEI or Complainant) filed a formal complaint against Sierra Pacific Power Company (SPPC or Respondent), alleging that SPPC failed to comply with the terms, conditions, and implied covenants of the Interconnection and Operating Agreement; as amended between NNEI and SPPC, and has failed to pay for costs caused by changes made by SPPC, as more fully described in the complaint.

The Complainant certifies that copies of the Complaint were served on the contacts for the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 13, 2014.

Dated: December 24, 2013.
Kimberly D. Bose,
Secretary.

[FR Doc. 2013-31334 Filed 12-30-13; 8:45 am]

BILLING CODE 6717-01-P